DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 18, 2006.

Interested persons are invited to submit written comments regarding the subject matter of the investigations to the Director, Division of Trade Adjustment Assistance, at the address shown below, not later than December 18, 2006.

The petitions filed in this case are available for inspection at the Office of the Director, Division of Trade Adjustment Assistance, Employment and Training Administration, U.S. Department of Labor, Room C-5311, 200 Constitution Avenue, NW., Washington, DC 20210.

Dated: November 28, 2006.
Linda G. Poole,
Certifying Officer, Division of Trade Adjustment Assistance.

Appendix
[TAA petitions instituted between 11/20/06 and 11/24/06]
TA-W | Subject firm (petitioners) | Location | Date of institution | Date of petition
60457 | NewPage—Luke Maryland Coated Paper Mill (Comp) | Luke, MD | 11/20/06 | 11/20/06
60458 | Wheeling Pittsburgh Steel Corp. (Union) | Allenport, PA | 11/20/06 | 11/08/06
60459 | Sandusky Limited (Wkrs) | Sandusky, OH | 11/20/06 | 11/20/06
60460 | Roseburg Forest Products (Union) | Coquille, OR | 11/20/06 | 11/10/06
60461 | Davis Industries Inc./dba Astro-Lounger/Davis (Comp) | Houlka, MS | 11/21/06 | 11/17/06
60462 | St. Louis Braid (Union) | St. Louis, MO | 11/21/06 | 11/21/06
60463 | Cott Wyomissing (IBT) | Wyomissing, PA | 11/21/06 | 11/20/06
60464 | Key Technology (State) | Medford, OR | 11/21/06 | 11/20/06
60465 | Emerson Motors (Wkrs) | Paragould, AR | 11/21/06 | 11/20/06
60466 | International Textile Group (Comp) | Cordova, NC | 11/21/06 | 11/20/06
60467 | Spaulding Lighting (IUE) | Cincinnati, OH | 11/22/06 | 11/20/06
60468 | USR Metals, Inc. (Comp) | Bloomsburg, PA | 11/22/06 | 11/20/06
60469 | TMT International, Inc. (Wkrs) | Elgin, TX | 11/22/06 | 11/21/06
60470 | Lanxess Corporation (Wkrs) | Wellford, SC | 11/22/06 | 11/10/06
60471 | Armstrong Wood Products (Comp) | Nashville, TN | 11/22/06 | 11/21/06
60472 | Camillus Cutlery Company (USW) | Camillus, NY | 11/22/06 | 11/16/06
60473 | R.G. Barry Corporation (Wkrs) | Pickerington, OH | 11/22/06 | 11/13/06
60474 | General Chemical Performance Products (Comp) | Newark, NJ | 11/24/06 | 11/22/06
60475 | Deco Engineering, Inc. (Comp) | Royal Oak, MI | 11/24/06 | 11/22/06
60476 | Ultra Flex (Comp) | High Point, NC | 11/24/06 | 11/22/06
60477 | American Uniform Company (Comp) | Cleveland, TN | 11/24/06 | 11/22/06
60478 | Ford Motor Company (UAW) | Hazelwood, MO | 11/24/06 | 11/21/06
60479 | Omnova Solutions (Wkrs) | Auburn, PA | 11/24/06 | 11/16/06
60480 | Emcor Facilities Services, Inc. (Wkrs) | Costa Mesa, CA | 11/24/06 | 11/22/06

[FR Doc. E6-20841 Filed 12-7-06; 8:45 am]

BILLING CODE 4510-30-P